DEPARTMENT OF HEALTH AND HUMAN SERVICES

Food and Drug Administration

[Docket No. 2010-N-0389]

Medical Device User Fee Act; Public Meeting; Request for Comments; Amendment of Notice

AGENCY: Food and Drug Administration, HHS.

ACTION: Notice.

SUMMARY: The Food and Drug Administration (FDA) is announcing an amendment to the notice of a public meeting on the reauthorization of the medical device user fee program. This meeting was announced in the Federal Register of August 13, 2010 (75 FR 49502). The amendment is being made to include the exact meeting location, previously identified only as the Washington D.C. metropolitan area. There are no other changes.

FOR FURTHER INFORMATION CONTACT: James Swink, Center for Devices and Radiological Health, Food and Drug Administration, 10903 New Hampshire Ave., Bldg. 66, rm. 1609, Silver Spring, MD 20993, 301-796-6313, FAX: 301-847-8121, email: James.Swink@fda.hhs.gov.

SUPPLEMENTARY INFORMATION: In the Federal Register of August 13, 2010 (75 FR 49502), FDA announced that a public meeting on the reauthorization of the medical device user fee program would be held on September 14, 2010. On page 49503, in the first column, the Location portion of the document is changed to read as follows:

Location: The meeting will be held at the Marriott Inn and Conference Center, University of Maryland University College (UMUC), 3501 University Blvd. East, Hyattsville, MD 20783, www.marriott.com/wasum.

Dated: August 27, 2010.
David Dorsey,
Acting Deputy Commissioner for Policy, Planning and Budget.

[FR Doc. 2010-21800 Filed 8-31-10; 8:45 am]

BILLING CODE 4160-01-S